DEPARTMENT OF HEALTH AND HUMAN SERVICES

Health Resources and Services Administration

Notice of Availability of Draft Policy Documents for Comment

AGENCY: Health Resources and Services Administration, HHS.

ACTION: Extension of requests for comments deadline.

SUMMARY: The Health Resources and Services Administration published a notice in the Federal Register of August 29, 2007, requesting comments on draft Agency Guidance (Policy Information Notices (PINS)) to describe the policy and processes pertaining to requests from federally-funded health centers to change the scope of their Federal project. The PINS, “Defining Scope of Project and Policy for Requesting Changes,” “Changes in Scope Requests: Policy for Adding a New Target Population,” and “Specialty Services and Health Centers’ Scope of Project,” are available on the Internet at http://bphc.hrsa.gov.

Correction: In the Federal Register of August 29, 2007, FR Doc. E7-17092, on page 49724, in the first column, under DATES, the deadline for comments has been extended to October 19, 2007.

Dated: October 5, 2007.
Dennis P. Williams,
Deputy Administrator.

[FR Doc. E7-20171 Filed 10-11-07; 8:45 am]

BILLING CODE 4165-15-P